FEDERAL COMMUNICATIONS COMMISSION

47 CFR Part 90

[ET Docket No. 04-151, WT Docket No. 05-96, ET Docket No. 02-380, and ET Docket No. 98-237; FCC 05-56]

Wireless Operations in the 3650-3700 MHz Band

AGENCY: Federal Communications Commission.

ACTION: Final rule; correction of effective date.

SUMMARY: On May 11, 2005, the Commission published final rules in the Report and Order and Memorandum Opinion and Order. The Report and Order adopted rules that provided for nationwide, non-exclusive, licensing of terrestrial operations, utilizing technology with a contention-based protocol, in the 3650-3700 MHz band (3650 MHz) band. This document contains a correction to the effective date. The Commission deferred the effective date due to the anticipated need for Office of Management and Budget (OMB) approval under the Paperwork Reduction Act (PRA). The Commission has since determined that OMB approval is not required.

DATES: Sections 90.203(o) and 90.1323 were effective June 10, 2005.

FOR FURTHER INFORMATION CONTACT: Gary Thayer (202) 418-2290, email Gary.Thayer@fcc.gov, Office of Engineering and Technology.

SUPPLEMENTARY INFORMATION: The Federal Communications Commission published a document amending part 90 Federal Register of May 11, 2005 (70 FR 24712). This document corrects the Federal Register as it appeared. In FR Doc. 05-9096, published on May 11, 2005 (70 FR 24712), the Commission is correcting the effective date of §§ 90.203(o) and 90.1323, to read as June 10, 2005.

Correction

1. On page 24712, in the third column, the DATES section is corrected to read as “Effective date: June 10, 2005.”

Federal Communications Commission.
Marlene H. Dortch,
Secretary.

[FR Doc. 05-14178 Filed 7-19-05; 8:45 am]

BILLING CODE 6712-01-P